DEPARTMENT OF ENERGY

Federal Energy Regulatory Commission

[Docket No. Is16-61-000]

Colonial Pipeline Company; Notice Of Technical Conference

Take notice that the Commission will convene a technical conference on January 26, 2016, at 9:00 a.m. (EDT), in a room to be designated at the offices of the Federal Energy Regulatory Commission, 888 First Street NE., Washington, DC 20426.

At the technical conference, the Commission Staff and the parties to the proceeding should be prepared to discuss all issues set for technical conference as established in the December 3, 2015 Order (Colonial Pipeline Company, 153 FERC ¶ 61,270 (2015).

Advanced registration is required for all attendees. Attendees may register in advance at the following Web page: https://www.ferc.gov/whats-new/registration/01-26-16-form.asp. Attendees should allow time to pass through building security procedures before the 9:00 a.m. (Eastern Time) start time of the technical conference. In addition, information on this event will be posted on the Calendar of Events on the Commission's Web site, www.ferc.gov, prior to the event.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact Adrianne Cook, 202-502-8849, adrianne.cook@ferc.gov or David Faerberg, 202-502-8275, david.faerberg@ferc.gov.

Dated: January 5, 2016.
Nathaniel J. Davis, Sr.,
Deputy Secretary.

[FR Doc. 2016-00283 Filed 1-8-16; 8:45 am]

BILLING CODE 6717-01-P